DEPARTMENT OF ENERGY

Southeastern Power Administration

Georgia-Alabama-South Carolina System of Projects

AGENCY: Southeastern Power Administration, DOE.

ACTION: Notice of proposed rate adjustment.

SUMMARY: Southeastern Power Administration (Southeastern) proposes to revise existing schedules of rates and charges applicable to the sale of power from the Georgia-Alabama-South Carolina System of Projects effective for a 5-year period, October 1, 2002, through September 30, 2007. Additionally, opportunities will be available for interested persons to review the present rates, the proposed rates and supporting studies, to participate in a forum and to submit written comments. Southeastern will evaluate all comments received in this process.

DATES: Written comments are due on or before June 11, 2002. A public information and comment forum will be held at the Westin Atlanta Airport, in Atlanta, Georgia, at 10 a.m., on April 18, 2002. Persons desiring to speak at the forum should notify Southeastern at least 3 days before the forum is scheduled, so that a list of forum participants can be prepared. Others may speak if time permits.

ADDRESSES: Written comments should be submitted to: Administrator, Southeastern Power Administration, Department of Energy, 1166 Athens Tech Road, Elberton, Georgia 30635-6711. The public information and comment forums for the Georgia-Alabama-South Carolina System of Projects will be at the Westin Atlanta Airport, 4736 Best Road, Atlanta, Georgia 30337, (404-762-7676).

FOR FURTHER INFORMATION CONTACT: Leon Jourolmon, Assistant Administrator, Finance & Marketing, Southeastern Power Administration, Department of Energy, 1166 Athens Tech Road, Elberton, Georgia 30635, (706) 213-3800.

SUPPLEMENTARY INFORMATION: The Federal Energy Regulatory Commission (the Commission) by order issued February 26, 1999, in Docket No. EF98-3011-000, (86 FERC 61,195) confirmed and approved Wholesale Power Rate Schedules SOCO-1, SOCO-2, SOCO-3, SOCO-4, ALA-1-I, MISS-1-I, Duke-1, Duke-2, Duke-3, Duke-4, Santee-1, Santee-2, Santee-3, Santee-4, and Pump-1 applicable to Georgia-Alabama-South Carolina System of Projects' power for a period ending September 30, 2003. On April 23, 1999, in Docket No. EF98-3011-001, the Commission issued an order granting rehearing for further consideration. On July 31, 2001, the Commission issued an order denying rehearing. Rate schedule Regulation-1 was approved by the Administrator, Southeastern Power Administration, on May 2, 2001.

Discussion: Existing rate schedules are predicated upon a July 1998 repayment study and other supporting data contained in FERC Docket No. EF98-3011-000. The current repayment study prepared in February 2002 shows that existing rates are not adequate to recover all costs required by present repayment criteria. Southeastern is proposing to establish rates that will recoup these unrecovered costs.

Existing rates for the Georgia-Alabama-South Carolina System have been in effect since October 1, 1998. This region has experienced a severe drought since that time. This has impacted repayment in two ways. First, revenues have been reduced because Southeastern has had less energy available for sale. Second, expenses have increased because it has been necessary for Southeastern to purchase replacement energy to meet its contractual obligations.

Southeastern is proposing four rate alternatives for public comment. Southeastern is proposing two rate alternatives that would continue the current rate design where purchases of replacement energy are included in the capacity and energy charges from Southeastern. These are designated “Scenario 1A” and “Scenario 1B.” In addition, Southeastern is proposing two rate alternatives that include a direct pass through of replacement energy costs. These are designated “Scenario 2A” and “Scenario 2B.” Under these alternatives, replacement energy costs are excluded from the capacity and energy charges.

Proposed Unit Rates

Southeastern is proposing the following rate schedules to be effective for the period from October 1, 2002 through September 30, 2007.

Rate Schedule SOCO-1-A

Available to public bodies and cooperatives in Georgia, Alabama, Mississippi, and Florida to whom power may be wheeled and scheduled pursuant to contracts between the Government and Southern Company Services, Incorporated.

Rate Schedule SOCO-2-A

Available to public bodies and cooperatives in Georgia, Alabama, Mississippi, and Florida to whom power may be wheeled pursuant to contracts between the Government and Southern Company Services, Incorporated. The customer is responsible for providing a scheduling arrangement with the Government.

Rate Schedule SOCO-3-A

Available to public bodies and cooperatives in Georgia, Alabama, Mississippi, and Florida to whom power may be scheduled pursuant to contracts between the Government and Southern Company Services, Incorporated. The customer is responsible for providing a transmission arrangement.

Rate Schedule SOCO-4-A

Available to public bodies and cooperatives in Georgia, Alabama, Mississippi, and Florida. The customer is responsible for providing a scheduling arrangement with the Government and for providing a transmission arrangement.

Rate Schedule ALA-1-J

Available to the Alabama Electric Cooperative, Incorporated.

Rate Schedule MISS-1-J

Available to the South Mississippi Electric Power Association to whom power may be wheeled pursuant to contract between the Government and Alabama Electric Cooperative, Inc.

Rate Schedule Duke-1-A

Available to public bodies and cooperatives in North Carolina and South Carolina to whom power may be wheeled and scheduled pursuant to contracts between the Government and Duke Power Company.

Rate Schedule Duke-2-A

Available to public bodies and cooperatives in North Carolina and South Carolina to whom power may be wheeled pursuant to contracts between the Government and Duke Power Company. The customer is responsible for providing a scheduling arrangement with the Government.

Rate Schedule Duke-3-A

Available to public bodies and cooperatives in North Carolina and South Carolina to whom power may be scheduled pursuant to contracts between the Government and Duke Power Company. The customer is responsible for providing a transmission arrangement.

Rate Schedule Duke-4-A

Available to public bodies and cooperatives in North Carolina and South Carolina served through the transmission facilities of Duke Power Company. The customer is responsible for providing a scheduling arrangement with the Government and for providing a transmission arrangement.

Rate Schedule Santee-1-A

Available to public bodies and cooperatives in South Carolina to whom power may be wheeled and scheduled pursuant to contracts between the Government and South Carolina Public Service Authority.

Rate Schedule Santee-2-A

Available to public bodies and cooperatives in South Carolina to whom power may be wheeled pursuant to contracts between the Government and South Carolina Public Service Authority. The customer is responsible for providing a scheduling arrangement with the Government.

Rate Schedule Santee-3-A

Available to public bodies and cooperatives in South Carolina to whom power may be scheduled pursuant to contracts between the Government and South Carolina Public Service Authority. The customer is responsible for providing a transmission arrangement.

Rate Schedule Santee-4-A

Available to public bodies and cooperatives in South Carolina served through the transmission facilities of South Carolina Public Service Authority. The customer is responsible for providing a scheduling arrangement with the Government and for providing a transmission arrangement.

Rate Schedule SCE&G-1-A

Available to public bodies and cooperatives in South Carolina to whom power may be wheeled and scheduled pursuant to contracts between the Government and South Carolina Electric & Gas Company.

Rate Schedule SCE&G-2-A

Available to public bodies and cooperatives in South Carolina to whom power may be wheeled pursuant to contracts between the Government and South Carolina Electric & Gas Company. The customer is responsible for providing a scheduling arrangement with the Government.

Rate Schedule SCE&G-3-A

Available to public bodies and cooperatives in South Carolina to whom power may be scheduled pursuant to contracts between the Government and South Carolina Electric & Gas Company. The customer is responsible for providing a transmission arrangement.

Rate Schedule SCE&G-4-A

Available to public bodies and cooperatives in South Carolina served through the transmission facilities of South Carolina Electric & Gas Company. The customer is responsible for providing a scheduling arrangement with the Government and for providing a transmission arrangement.

Rate Schedule Pump-1

Available to all customers of the Georgia-Alabama-South Carolina System and applicable to energy from pumping operations at the Carters and Richard B. Russell projects.

Rate Schedule Regulation-1

Available to public bodies and cooperatives in Georgia, Alabama, Mississippi, Florida, South Carolina, or North Carolina to whom regulation service is provided pursuant to contracts between the Government and the customer.

Rate Schedule Replacement-1

Available to all customers in the Georgia-Alabama-South Carolina System and applicable to replacement energy.

Under Scenario 1A, the proposed rates for capacity, energy, and generation services are as follows:

Capacity: $2.98 per kw per month.

Energy: 7.91 mills per kwh.

Generation Services: $0.13 per kw per month.

Under this scenario, 70 per cent of generation revenues are recovered from capacity sales and 30 per cent are recovered from energy sales. These rates include a reserve for contingencies. These rates are expected to produce an average revenue increase of $10.0 million in FY 2003 and all future years.

Under Scenario 1B, the proposed rates for capacity, energy, and generation services are as follows:

Capacity: $3.60 per kw per month.

Energy: 3.94 mills per kwh.

Generation Services: $0.13 per kw per month.

Under this scenario, 85 per cent of generation revenues are recovered from capacity sales and 15 per cent are recovered from energy sales. These rates include no reserve for contingencies. These rates are expected to produce an average revenue increase of $9.5 million in FY 2003 and all future years.

Under Scenario 2A, the proposed rates for capacity, energy, and generation services are as follows:

Capacity: $2.89 per kw per month.

Energy: 7.67 mills per kwh.

Generation Services: $0.13 per kw per month.

Under Scenario 2A, 70 percent of generation revenues are recovered from capacity sales and 30 per cent are recovered from energy sales. These rates include a reserve for contingencies. These rates are expected to produce an average revenue increase of $7.0 million in FY 2003 and all future years.

Under Scenario 2B, the proposed rates for capacity, energy, and generation services are as follows:

Capacity: $3.49 per kw per month.

Energy: 3.82 mills per kwh.

Generation Services: $0.13 per kw per month.

Under Scenario 2B, 85 percent of generation revenues are recovered from capacity sales and 15 per cent are recovered from energy sales. These rates include no reserve for contingencies. These rates are expected to produce an average revenue increase of $6.5 million in FY 2003 and all future years.

The rates for transmission, scheduling, reactive supply, and regulation and frequency response apply to all four scenarios and are illustrated in Table 1.

Southeastern Power Administration Proposed Rates for Transmission Scheduling, Reactive, and Regulation Charges
Rate schedule | Transmission charge, $/KW/month | Scheduling charge, $/KW/month | Reactive charge, $/KW/month | Regulation charge, $/KW/month
SOCO-1-A | 1.51 | 0.0806 | 0.11 | 0.0483
SOCO-2-A | 1.51 | N/A | 0.11 | N/A
SOCO-3-A | N/A | 0.0806 | N/A | 0.0483
SOCO-4-A | N/A | N/A | N/A | N/A
ALA-1-J | N/A | N/A | N/A | N/A
MISS-1-J | 1.854 | N/A | N/A | N/A
Duke-1-A | 0.93 | N/A | N/A | N/A
Duke-2-A | 0.93 | N/A | N/A | N/A
Duke-3-A | N/A | N/A | N/A | N/A
Duke-4-A | N/A | N/A | N/A | N/A
Santee-1-A | 1.59 | N/A | N/A | N/A
Santee-2-A | 1.59 | N/A | N/A | N/A
Santee-3-A | N/A | N/A | N/A | N/A
Santee-4-A | N/A | N/A | N/A | N/A
SCE&G-1-A | 1.13 | N/A | N/A | N/A
SCE&G-2-A | 1.13 | N/A | N/A | N/A
SCE&G-3-A | N/A | N/A | N/A | N/A
SCE&G-4-A | N/A | N/A | N/A | N/A
Pump-1 | N/A | N/A | N/A | N/A
Regulation-1 | N/A | N/A | N/A | N/A
Replacement-1 | N/A | N/A | N/A | N/A

The referenced repayment studies are available for examination at 1166 Athens Tech Road, Elberton, Georgia 30635-6711. Proposed Rate Schedules SOCO-1-A, SOCO-2-A, SOCO-3-A, SOCO-4-A, ALA-1-J, MISS-1-J, Duke-1-A, Duke-2-A, Duke-3-A, Duke-4-A, Santee-1-A, Santee-2-A, Santee-3-A, Santee-4-A, SCE&G-1-A, SCE&G-2-A, SCE&G-3-A, SCE&G-4-A, Pump-1, Regulation-1, and Replacement-1 are also available.

Dated: February 26, 2002.
Charles A. Borchardt,
Administration.

[FR Doc. 02-6036 Filed 3-12-02; 8:45 am]

BILLING CODE 6450-01-P